NUCLEAR REGULATORY COMMISSION

Notice of Availability of Model Application on Technical Specification Improvement To Modify Requirements Regarding LCO 3.10.1, Inservice Leak and Hydrostatic Testing Operation Using the Consolidated Line Item Improvement Process

AGENCY: Nuclear Regulatory Commission.

ACTION: Notice of Availability.

SUMMARY: Notice is hereby given that the staff of the Nuclear Regulatory Commission (NRC) has prepared a model licensee application relating to the modification of shutdown testing requirements in technical specifications (TS) for Boiling Water Reactors (BWR). The purpose of this model is to permit the NRC to efficiently process amendments that propose to modify LCO 3.10.1, and the associated Bases, to expand its scope to include provisions for temperature excursions greater than [200]°F as a consequence of inservice leak and hydrostatic testing, and as a consequence of scram time testing initiated in conjunction with an inservice leak or hydrostatic test, while considering operational conditions to be in Mode 4. Licensees of nuclear power reactors to which the model applies could then request amendments, confirming the applicability to their reactors.

DATES: The NRC staff issued a Federal Register Notice on September 25, 2006 (71 FR 55807) that provided a model application relating to modification of requirements regarding LCO 3.10.1, “Inservice Leak and Hydrostatic Testing Operation.” The NRC staff hereby announces that the model application may be referenced in plant-specific applications to adopt the changes. The staff will post the model application on the NRC Web site to assist licensees in using the consolidated line item improvement process (CLIIP) to revise the TS on LCO 3.10.1, “Inservice Leak and Hydrostatic Testing Operation.”

FOR FURTHER INFORMATION CONTACT: Tim Kobetz, Mail Stop: O-12H2, Division of Inspections and Regional Support, Office of Nuclear Reactor Regulation, U.S. Nuclear Regulatory Commission, Washington, DC 20555-0001, telephone 301-415-1932.

SUPPLEMENTARY INFORMATION:

Background

Regulatory Issue Summary 2000-06, “Consolidated Line Item Improvement Process for Adopting Standard Technical Specification Changes for Power Reactors,” was issued on March 20, 2000. The consolidated line item improvement process (CLIIP) is intended to improve the efficiency of NRC licensing processes by processing proposed changes to the standard technical specifications (STS) in a manner that supports subsequent license amendment applications. The CLIIP includes an opportunity for the public to comment on a proposed change to the STS after a preliminary assessment by the NRC staff and a finding that the change will likely be offered for adoption by licensees. The CLIIP directs the NRC staff to evaluate any comments received for a proposed change to the STS and to either reconsider the change or announce the availability of the change for adoption by licensees.

A model safety evaluation and no significant hazards determination regarding the proposed changes to LCO 3.10.1 have been previously posted in the Federal Register for availability on October 27, 2006 (71 FR 63050). This notice makes available a model application that will permit the NRC to efficiently process amendments that propose to modify LCO 3.10.1, and the associated Bases, to expand its scope to include provisions for temperature excursions greater than [200]°F as a consequence of inservice leak and hydrostatic testing, and as a consequence of scram time testing initiated in conjunction with an inservice leak or hydrostatic test, while considering operational conditions to be in Mode 4.

Applicability

Licensees opting to apply for this TS change are responsible for reviewing the staff's evaluation, referencing the applicable technical justifications, and providing any necessary plant-specific information. To efficiently process the incoming license amendment applications, the NRC staff requests that each licensee applying for the changes addressed by TSTF-484, Revision 0, using the CLIIP, submit a license amendment request that adheres to the attached model application. Variations from the model application in this notice may require additional review by NRC staff, and may increase the time and resources needed for review. Significant variations from the model application, or inclusion of additional changes to the license, may result in staff rejection of the submittal. Each amendment application made in response to the notice of availability will be processed and noticed in accordance with applicable rules and NRC procedures.

Public Notices

In a notice in the Federal Register dated September 25, 2006 (71 FR 55807), the staff requested comment on the use of a model application to process requests to revise the TS regarding LCO 3.10.1, “Inservice Leak and Hydrostatic Testing Operation.” No comments have been received. TSTF-484, as well as the NRC staff's safety evaluation and model application, may be examined, and/or copied for a fee, at the NRC's Public Document Room, located at One White Flint North, 11555 Rockville Pike (first floor), Rockville, Maryland. Publicly available records are accessible electronically from the ADAMS Public Library component on the NRC Web site, (the Electronic Reading Room).

Model Application for License Amendments Adopting TSTF-484, Rev. 0, “use of TS 3.10.1 for Scram Time Testing Activities”

U.S. Nuclear Regulatory Commission, Document Control Desk, Washington, DC 20555.

SUBJECT: [Plant Name]

Docket No. 50—License Amendment Request for Adoption of TSTF-484, Rev. 0, “Use of TS 3.10.1 for Scram Time Testing Activities”

In accordance with the provisions of Section 50.90 of Title 10 of the Code of Federal Regulations (10 CFR 50.90), [LICENSEE] is submitting a request for an amendment to the technical specifications (TS) for [PLANT NAME, UNIT NO.].

The proposed amendment would revise LCO 3.10.1, and the associated Bases, to expand its scope to include provisions for temperature excursions greater than [200]°F as a consequence of inservice leak and hydrostatic testing, and as a consequence of scram time testing initiated in conjunction with an inservice leak or hydrostatic test, while considering operational conditions to be in Mode 4. This change is consistent with NRC approved Revision 0 to Technical Specification Task Force (TSTF) Improved Standard Technical Specification Change Traveler, TSTF-484, “Use of TS 3.10.1 for Scram Time Testing Activities.” The availability of the TS 3.10.1 revision was announced in the Federal Register on October 27, 2006 (71 FR 63050) as part of the consolidated line item improvement process (CLIIP).

Attachment 1 provides an evaluation of the proposed change. Attachment 2 provides the existing TS pages marked up to show the proposed change. Attachment 3 provides the proposed TS changes in final typed format. Attachment 4 provides the existing Bases pages marked up to show the proposed change.

[LICENSEE] requests approval of the proposed license amendment by [DATE], with the amendment being implemented [BY DATE OR WITHIN X DAYS].

In accordance with 10 CFR 50.91, a copy of this application, with attachments, is being provided to the designated [STATE] Official.

If you should have any questions regarding this submittal, please contact [ ].

I declare under penalty of perjury under the laws of the United States of America that I am authorized by [LICENSEE] to make this request and that the foregoing is true and correct.

Executed on [DATE].

[NAME, TITLE]

Attachments: 1. Evaluation of Proposed Change; 2. Proposed Technical Specification Change (Mark-Up); 3. Proposed Technical Specification Change (Re-Typed); 4. Proposed Technical Specification Bases Change (Mark-Up).

cc: [NRR Project Manager]

[Regional Office]

[Resident Inspector]

[State Contact]

Attachment 1—Evaluation of Proposed Change

License Amendment Request for Adoption of TSTF-484, Rev. 0, “Use of TS 3.10.1 for Scram Time Testing Activities”

1.0 Description

2.0 Proposed Change

3.0 Background

4.0 Technical Analysis

5.0 Regulatory Safety Analysis

5.1 No Significant Hazards Determination

5.2 Applicable Regulatory Requirements/Criteria

6.0 Environmental Consideration

7.0 References

1.0 Description

The proposed amendment would revise LCO 3.10.1, and the associated Bases, to expand its scope to include provisions for temperature excursions greater than [200]°F as a consequence of inservice leak and hydrostatic testing, and as a consequence of scram time testing initiated in conjunction with an inservice leak or hydrostatic test, while considering operational conditions to be in Mode 4. This change is consistent with NRC approved Revision 0 to Technical Specification Task Force (TSTF) Improved Standard Technical Specification Change Traveler, TSTF-484, “Use of TS 3.10.1 for Scram Time Testing Activities.” The availability of the TS 3.10.1 revision was announced in the Federal Register on October 27, 2006 (71 FR 63050) as part of the consolidated line item improvement process (CLIIP).

2.0 Proposed Change

Consistent with the NRC approved Revision 0 of TSTF-484, the proposed TS changes include a revised TS 3.10.1, “Inservice Leak and Hydrostatic Testing Operation.” Proposed revisions to the TS Bases are also included in this application. Adoption of the TS Bases associated with TSTF-484, Revision 0 is an integral part of implementing this TS amendment. The changes to the affected TS Bases pages will be incorporated in accordance with the TS Bases Control Program.

This application is being made in accordance with the CLIIP. [LICENSEE] is [not] proposing variations or deviations from the TS changes described in TSTF-484, Revision 0, or the NRC staff's model safety evaluation (SE) published on October 27, 2006 (71 FR 63050) as part of the CLIIP Notice of Availability. [Discuss any deviations]

3.0 Background

The background for this application is adequately addressed by the NRC Notice of Availability published on October 27, 2006 (71 FR 63050).

4.0 Technical Analysis

[LICENSEE] has reviewed the safety evaluation (SE) published on October 27, 2006 (71 FR 63050) as part of the CLIIP Notice of Availability. [LICENSEE] has concluded that the technical justifications presented in the SE prepared by the NRC staff are applicable to [PLANT, UNIT NO.] and therefore justify this amendment for the incorporation of the proposed changes to the [PLANT] TS.

5.0 Regulatory Safety Analysis

5.1 No Significant Hazards Determination

[LICENSEE] has reviewed the no significant hazards determination published on August 21, 2006 (71 FR 48561) as part of the CLIIP Notice for Comment. The no significant hazards determination was made available on October 27, 2006 (71 FR 63050) as part of the CLIIP Notice of Availability. [LICENSEE] has concluded that the determination presented in the notice is applicable to [PLANT, UNIT NO.] and the determination is hereby incorporated by reference to satisfy the requirements of 10 CFR 50.91(a).

5.2 Applicable Regulatory Requirements / Criteria

A description of the proposed TS change and its relationship to applicable regulatory requirements was provided in the NRC Notice of Availability published on October 27, 2006 (71 FR 63050).

6.0 Environmental Consideration

[LICENSEE] has reviewed the environmental evaluation included in the safety evaluation (SE) published on October 27, 2006 (71 FR 63050) as part of the CLIIP Notice of Availability. [LICENSEE] has concluded that the staff's findings presented in that evaluation are applicable to [PLANT, NO.] and the evaluation is hereby incorporated by reference for this application.

7.0 References

1. Federal Register Notice, Notice of Availability published on October 27, 2006 (71 FR 63050).

2. Federal Register Notice, Notice for Comment published on August 21, 2006 (71 FR 48561)

3. TSTF-484 Revision 0, “Use of TS 3.10.1 for Scram Times Testing Activities”

Attachment 2

Proposed Technical Specification Change (Mark-Up)

Attachment 3

Proposed Technical Specification Change (Re-Typed)

Attachment 4

Proposed Technical Specification Bases Change (Mark-Up)

Principal Contributor: Aron Lewin.

Dated at Rockville, Maryland this 20th of November 2006.
For the Nuclear Regulatory Commission.
Timothy Kobetz,
Chief, Technical Specifications Branch, Division of Inspections and Regional Support, Office of Nuclear Reactor Regulation.

[FR Doc. E6-19972 Filed 11-24-06; 8:45 am]

BILLING CODE 7590-01-P